DEPARTMENT OF AGRICULTURE

Forest Service

Deschutes Provincial Interagency Executive Committee (PIEC), Advisory Committee; Notice of Meeting

SUMMARY: The Deschutes PIEC Advisory Committee will meet on April 12-13, 2000 at the Hood River Hotel at 102 Oak Avenue, Hood River, Oregon. The first day will be a field trip starting at 10:00 a.m. to visit restoration projects in the northern part of the Province. The second day will be a business meeting that will begin at 8:30 a.m. and finish at 3:30 p.m. Agenda items will include Wilderness Issues on the Mt. Hood, Interior Columbia Basin Ecosystem Management Project Briefing and Comment Process, Working Group/Subcommittee Updates, Info Sharing Around the Province and a Public Forum from 3:00 p.m. till 3:30 p.m. All Deschutes Province Advisory Committee Meetings are open to the public.

FOR FURTHER INFORMATION CONTACT: Mollie Chaudet, Province Liaison, USDA, Bend-Ft. Rock Ranger District, 1230 N.E. 3rd, Bend, OR, 97701, Phone (541) 383-4769.

Dated: March 21, 2000.
Sally Collins,
Deschutes National Forest Supervisor.

[FR Doc. 00-7548 Filed 3-27-00; 8:45 am]

BILLING CODE 3410-11-M